DEPARTMENT OF AGRICULTURE

Forest Service

Revision of Land Management Plan for Carson National Forest; Counties of Colfax, Mora, Rio Arriba, and Taos, New Mexico

AGENCY: Forest Service, USDA.

ACTION: Notice of intent to revise the Carson National Forest Land Management Plan and prepare an associated Environmental Impact Statement.

SUMMARY: As directed by the National Forest Management Act, the USDA Forest Service is revising the existing Carson National Forest's Land Management Plan (hereafter referred to as forest plan) through development of an associated National Environmental Policy Act (NEPA) Environmental Impact Statement (EIS). This Notice describes the documents (Assessment Report of Ecological, Social, and Economic Conditions, Trends, and Sustainability for the Carson NF; Summaries of Public Meetings; and Carson NF's Needs to Change Management Direction of Its Existing 1986 Forest Plan) available for review and how to obtain them; summarizes the needs to change the existing forest plan; provides information concerning public participation and engagement, including the process for submitting comments; provides an estimated schedule for the planning process, including the time available for comments, and includes the names and addresses of agency contacts who can provide additional information.

DATES: Comments concerning the Needs to Change and Proposed Action provided in this Notice will be most useful in the development of the draft revised plan and draft EIS if received by November 20, 2015. The agency expects to release a draft revised plan and draft EIS, developed through a collaborative public engagement process, by late Fall/Winter 2016 and a final revised plan and final EIS by Spring 2018.

ADDRESSES: Send written comments to Carson National Forest, Attn: Plan Revision, 208 Cruz Alta Road, Taos, New Mexico 87571. Comments may also be sent via email to carsonplan@fs.fed.us.

FOR FURTHER INFORMATION CONTACT: Kevin Naranjo, Forest Planner, 575-758-6221. Individuals who use telecommunication devices for the deaf (TDD) may call the Federal Information Relay Service (FIRS) at 1-800-877-8339 between 8:00 a.m. and 8:00 p.m., Eastern Standard Time, Monday through Friday.

More information on the planning process can also be found on the Carson National Forest's Web site at www.fs.usda.gov/goto/carsonforestplan.

SUPPLEMENTARY INFORMATION:

Name and Address of the Responsible Official

James Duran, Forest Supervisor, Carson National Forest, 208 Cruz Alta, Taos, New Mexico 87571.

Nature of the Decision To Be Made

The Carson National Forest (NF) is preparing an EIS to revise the existing forest plan. The EIS process is meant to inform the Forest Supervisor so he can decide which alternative best maintains and restores National Forest System terrestrial and aquatic resources, while providing ecosystem services and multiple uses, as required by the National Forest Management Act and the Multiple Use Sustained Yield Act.

The revised forest plan will describe the strategic intent of managing the Carson NF for the next 15 years and will address the needs to change the existing forest plan. The revised forest plan will provide management direction in the form of desired conditions, objectives, standards, guidelines, and suitability of lands. It will identify delineation of new management areas and geographic areas across the Forest; identify the timber sale program quantity; potentially make recommendations to Congress for Wilderness designation; and list rivers and streams eligible for inclusion in the National Wild and Scenic Rivers System. The revised forest plan will also provide a description of the plan area's distinctive roles and contributions within the broader landscape, identify watersheds that are a priority for maintenance or restoration, include a monitoring program, and contain information reflecting expected possible actions over the life of the plan.

The revised forest plan will provide strategic direction and a framework for decision making during the life of the plan, but it will not make site-specific project decisions and will not dictate day-to-day administrative activities needed to carry on the Forest Service's internal operations. The authorization of project level activities will be based on the guidance/direction contained in the revised plan, but will occur through subsequent project specific decision-making, including NEPA.

The revised forest plan will provide broad, strategic guidance that is consistent with other laws and regulations. Though strategic guidance will be provided, no decisions will be made regarding the management of individual roads or trails, such as those might be associated with a Travel Management plan under 36 CFR part 212. Some issues (e.g., hunting regulations), although important, are beyond the authority or control of the National Forest System and cannot be considered. No decision regarding oil and gas leasing availability will be made, though plan components may be brought forward or developed that will help guide oil and gas leasing availability decisions that may be necessary in the future.

Purpose and Need and Proposed Action

According to the National Forest Management Act and 2012 Planning Rule (36 CFR 219), forest plans are to be revised at least every 15 years. The Proposed Action is to revise the forest plan in order to address the needs to change that were identified through public involvement and the assessment process. Alternatives to the Proposed Action will be developed to address the significant issues that are identified through scoping.

The purpose and need for revising the current Carson NF forest plan are: (1) To update the forest plan, which was approved in 1986 and is 29 years old; (2) to reflect changes in economic, social, and ecological conditions, new policies and priorities, and new information based on monitoring and scientific research; and (3) to address the needs to change the existing forest plan, that are summarized below. Extensive public and employee involvement, along with science-based evaluations, have helped to identify these needs to change to the existing forest plan.

What follows is a summary of the identified needs to change. A more fully developed description of the needs to change statements, which has been organized into several resource and management topic sections, is available for review on the plan revision Web site at: www.fs.usda.gov/goto/carsonforestplan.

Throughout the Plan

There is a need for the revised plan to better recognize and enhance the Carson NF's role in contributing to local economies, including service-based sectors, such as recreation and tourism, timber and forest products, livestock grazing, and other multiple-use related activities and products.

There is a need to reevaluate management areas in the current plan, to minimize complexity and allow more flexibility for restoration and habitat treatments, as well as update plan content regarding the resources, goods, and services provided by the Carson NF.

There is a need to include plan direction that allows for adaptive management, to address potential climate change effects.

There is a need to develop plan direction related to Forest Service land acquisitions, disposals, and exchanges that are not covered by the existing forest plan.

There is a need to include other plan content or management approaches that: (1) Consider the capacity of local infrastructure, contractors, and markets in moving toward achieving desired conditions; (2) utilize partnership and volunteer opportunities as a management option, to promote movement toward desired conditions; and (3) allow for adapting to fluctuations in forest budgets over the life of the plan, in moving toward achieving desired conditions.

Ecological Integrity

There is a need to develop desired conditions regarding forest and woodland structure, composition, and function, as well as objectives, standards, and guidelines that will promote restoration and achievement of desired conditions; support resiliency and sustainability; and minimize risks to ecosystem integrity.

There is a need to update plan direction to promote the restoration and maintenance of grass productivity, particularly native bunchgrass species, and to limit woody species encroachment and invasive plant establishment, both in grasslands and non-grasslands.

There is a need to update plan direction that supports integrated pest (weed) management.

There is a need to update plan direction which allows for an integrated resource approach to prescribed fire activity, as well as flexibility for restoration and maintenance of ecosystems.

There is a need to update plan direction to promote the use of wildland fire (management of wildfire and prescribed fire) in fire adapted ecosystems, while addressing public safety and health concerns.

There is a need to update plan direction to promote aspen health and resilience through managing regeneration and existing stands.

There is a need to update plan direction to promote the maintenance and restoration of soil condition and function (i.e., soil hydrology, soil stability, nutrient cycling), particularly in lower elevation systems.

There is a need to provide plan direction that promotes the protection, restoration and maintenance of appropriate composition and amount of riparian vegetation.

There is a need to provide plan direction regarding management of riparian areas around all lakes, perennial and intermittent streams, and wetlands.

There is a need to provide plan direction that promotes the protection, restoration, and maintenance of wetland condition and function.

There is a need to provide plan direction for the restoration of watersheds.

There is a need to provide plan direction for the sustainable management of water resources (e.g., groundwater, springs, wetlands, riparian areas, perennial waters) and their interconnections.

There is a need to update plan direction on managing for sustainable watersheds for multiple uses (e.g., wildlife, livestock, recreation, and mining) and public water supplies.

There is a need to update plan direction to promote desired watershed conditions that maintain water quality and quantity, as well as enhance retention.

Wildlife, Fish, and Plants

There is a need to update plan direction to promote the recovery and conservation of federally recognized species, the maintenance of viable populations of the species of conservation concern, and the maintenance of common and abundant species within the plan area.

There is a need to provide plan direction to address sustainability of habitat(s) for plant and animal species important to tribes and traditional communities.

There is a need to provide plan direction for managing towards terrestrial, riparian, and aquatic habitat connectivity for species movement across the landscape.

There is a need to provide plan direction that allows for improving aquatic passage in streams where it has been compromised. Plan direction should promote the restoration and expansion of the range of native aquatic species and connectivity of fragmented populations.

There is a need to provide plan direction that allows for an assortment of management approaches, including timber harvest, thinning, prescribed burning, and other vegetation management methods, to provide wildlife habitat for species that need a variety of forest habitats, such as interior, edge, young, and old forest.

Cultural and Historic Resources and Uses

There is a need to update plan direction for Native American traditional cultural properties and sacred sites and places, and non-Native American traditional cultural properties.

There is a need to provide plan direction addressing management of historic and contemporary cultural and traditional uses, including both economic and non-economic uses for tribes, and for traditional communities not considered under tribal relations (i.e., traditional Hispanic and Anglo communities).

Areas of Tribal Importance

There is a need to update plan direction addressing consistency of activities with legally mandated trust responsibilities to tribes.

There is a need to update plan direction orders, to ensure privacy for tribes engaged in cultural and ceremonial activities.

There is a need to update plan direction on design, location, installation, maintenance, and abandonment of towers, facilities, and alternative infrastructure within electronic communication sites, while giving due consideration to the value and importance of areas that may be identified as a sacred site or part of an important cultural landscape by tribes.

Multiple Uses

There is a need to provide plan direction for the management of commercial and noncommercial use of forest products.

There is a need to provide plan direction for the livestock grazing program that incorporates adaptive management, to move towards ecosystem-based desired conditions.

There is a need to update plan direction to promote the sustainable management of wild horses.

Recreation

There is a need to provide plan direction that promotes sustainable recreation management and to include management approaches within the revised plan to address user conflicts and demands in moving toward achieving recreation desired conditions.

There is a need to provide guidance for recreation activities that occur in areas sensitive to resource degradation or at risk, due to high visitation.

There is a need to update plan direction for the Continental Divide National Scenic Trail.

There is a need to update plan direction and guidance for incorporating the Recreation Opportunity Spectrum classifications the Scenery Management System integrity objectives across all programs areas.

There is a need to update plan direction for over-snow vehicle use and the recreation special uses program.

Designated Areas

There is a need to update plan direction for managing existing designated areas, including designated wilderness, research natural areas, and designated and eligible wild and scenic rivers, that promote the maintenance of desired values and characteristics unique to each area, as well as newly designated or potential designated areas.

Infrastructure

There is a need to provide plan direction for maintenance of transportation systems in watersheds identified as impaired or at-risk and for the reclamation of non-system roads.

Land Status and Ownership, Use, and Access

There is a need to update plan direction to address legal access for public, private landowner, and tribal needs and management, to promote contiguity of the land base and for reducing small unmanageable tracts of National Forest System lands.

Energy and Minerals

There is a need to update plan direction for recreational mining-related activities and the permitted use of common mineral materials.

There is a need to update plan direction for existing or proposed transmission corridors and renewable energy generation, including solar, biomass, and geothermal, while protecting natural resources, heritage and sacred sites, tribal traditional activities, and scenery.

Public Involvement

A Notice of initiating the assessment phase of forest plan revision for the Carson NF was published in the Federal Register on February 27, 2014 (79 FR 11074). Subsequently, the Carson NF held or participated in 32 public meetings and collaborative work sessions in communities around the forest, to explain the plan revision process and solicit comments, opinions, data, and ideas from members of the public, governmental entities, tribes, land grants, and nongovernmental organizations. Fifteen meetings were held in June 2014 providing an opportunity for people to express how they value and use the forest and asking what they want the forest to look like in the future. This information was used to inform the assessment for the Carson NF. The Carson and Santa Fe NFs jointly held 3 meetings in April/May of 2015 with members of local land grants, to present and discuss the plan revision process. In June of 2015, the forest held 14 community public meetings to present the key findings of the assessment and to have participants come up with management solutions to address these key findings or other issues of concern. The input from these meetings was used to inform and update both the assessment and needs-to-change statements. Approximately 556 people attended the 32 meetings and nearly 1,800 comment letters or forms were received, either at the meetings or by email, postal mail, or web-form. Public Information to the public was provided by a dedicated forest plan revision Web page and through mailings, flyers, news releases, Twitter, and radio interviews. Any comments related to the Carson NF's assessment report that are received following the publication of this Notice may be considered in the draft and final environmental impact statements.

Scoping Process

Written comments received in response to this Notice will be analyzed to complete the identification of the needs for change to the existing plan, further develop the proposed action, and identify potential significant issues. Significant issues will, in turn, form the basis for developing alternatives to the proposed action. Comments on the Needs to Change the Forest Plan and Proposed Action will be most valuable if received by November 20, 2015, and should clearly articulate the reviewer's issues and concerns. Comments received in response to this Notice, including the names and addresses of those who comment, will be part of the public record. Comments submitted anonymously will be accepted and considered in the NEPA process; however, anonymous comments will not provide the Agency with the ability to provide the respondent with subsequent environmental documents. See the below Objection Process description, particularly the requirements for filing an objection, on how anonymous comments are handled during the objection process. Refer to the Carson NF's Web site at www.fs.usda.gov/goto/carsonforestplan for information on when public meetings will be scheduled for refining the Proposed Action and identifying possible alternatives to the Proposed Action.

Applicable Planning Rule

Preparation of the revised forest plan for the Carson NF began with the assessment of the conditions and trends of the Forest's ecological, social, and economic resources, initiated under the planning procedures contained in the 2012 Forest Service planning rule (36 CFR 219 (2012)).

Permits or Licenses Required To Implement the Proposed Action

No permits or licenses are needed for the development or revision of a forest plan.

Proposed Decisions Are Subject To Objection

The proposed decision to approve the revised forest plan for the Carson NF will be subject to the objection process identified in 36 CFR part 219 Subpart B (219.50 to 219.62). According to 36 CFR 219.53(a), those who may file an objection are individuals and entities who have submitted substantive formal comments related to plan revision, during the opportunities provided for public comment throughout the planning process.

Documents Available for Review

The (1) Assessment Report of Ecological, Social, and Economic Conditions, Trends, and Sustainability for the Carson National Forest and (2) Carson National Forest's Needs to Change Management Direction of Its Existing 1986 Forest Plan, as well as summaries of the public meetings and public meeting materials, and public comments are posted on the Carson NF's Web site at: http://www.fs.usda.gov/goto/carsonforestplan. As necessary or appropriate, the material available on this site will be further adjusted as part of the planning process using the provisions of the 2012 planning rule.

Authority: 16 U.S.C. 1600-1614; 36 CFR part 219 [77 FR 21260-21273].

Responsible Official

The responsible official for revision of the Carson NF's forest plan is Forest Supervisor James Duran, Carson National Forest, 208 Cruz Alta Road, Taos, New Mexico 87571.

Dated: September 29, 2015.
James Duran,
Forest Supervisor, Carson National Forest.

[FR Doc. 2015-25519 Filed 10-6-15; 8:45 am]

BILLING CODE 3410-11-P